DEPARTMENT OF LABOR

Employment and Training Administration

[TA-W-62,161]

Tifton Aluminum Company, a Subsidiary of ALCOA, Inc., Tifton, GA; Notice of Termination of Investigation

Pursuant to section 221 of the Trade Act of 1974, as amended, an investigation was initiated on September 19, 2007 in response to a petition filed by a company official on behalf of workers of Tifton Aluminum Company, a subsidiary of Alcoa, Inc., Tifton, Georgia.

The petitioner has requested that the petition be withdrawn. Consequently, the investigation has been terminated. Further investigation in this case would serve no purpose.

Signed at Washington, DC, this 5th day of November, 2007.
Elliott S. Kushner,
Certifying Officer, Division of Trade Adjustment Assistance.

[FR Doc. E7-22061 Filed 11-9-07; 8:45am]

BILLING CODE 4510-FN-P